DEPARTMENT OF JUSTICE

Notice of Lodging Proposed Consent Decree

In accordance with Departmental Policy, 28 CFR 50.7, notice is hereby given that a proposed Consent Decree in United States v. Semitropic Water Storage Dist., Civil No. 1:10-cv-909-AWI-JLT, was lodged with the United States District Court for the Eastern District of California on May 20, 2010.

This proposed Consent Decree concerns a complaint filed by the United States against Defendant Semitropic Water Storage District, pursuant to Sections 301 and 404 of the Clean Water Act, 33 U.S.C. 1311 and 1344 to obtain injunctive relief and impose civil penalties against the Defendant for violating the Clean Water Act by discharging fill material into waters of the United States. The proposed Consent Decree resolves these allegations by requiring the Defendant to pay a civil penalty. In addition, Defendant has agreed to pay a fee in lieu of mitigation of $78,000, for its impacts to waters of the United States. The Department of Justice will accept written comments relating to this proposed Consent Decree for thirty (30) days from the date of publication of this Notice. Please address comments to Sylvia Quast, Assistant United States Attorney, United States Attorney's Office, Eastern District of California, 501 I Street, Suite 10-100, Sacramento, California and refer to United States v. Semitropic Water Storage Dist., Civil No. 1:10-cv-909-AWI-JLT.

The proposed Consent Decree may be examined at the Clerk's Office of the United States District Court for the Eastern District of California, 501 I Street, 4th Floor, Sacramento, California 95814. In addition, the proposed Consent Decree may be viewed at http://www.usdoj.gov/enrd/Consent_Decrees.html.

Maureen M. Katz,
Assistant Section Chief, Environment and Natural Resources Division.

[FR Doc. 2010-12637 Filed 5-25-10; 8:45 am]

BILLING CODE P